DEPARTMENT OF ENERGY

Federal Energy Regulatory Commission

[Docket No. RP01-430-001]

Florida Gas Transmission Company; Notice of Compliance Filing

July 2, 2001.

Take notice that on June 27, 2001, Florida Gas Transmission Company (FGT) tendered for filing as part of its FERC Gas Tariff, Third Revised Volume No. 1, the following tariff sheet to become effective June 25, 2001:

Substitute Second Revised Sheet No. 135A

FGT states that on May 25, 2001, FGT filed the referenced tariff sheet which would permit adjustments to the rate components of discount agreements to achieve the agreed upon overall rate as long as all rate components remain within the applicable minimum and maximum rates. Subsequently, on June 22, 2001, the Federal Energy Regulatory Commission issued an order requiring FGT to change the word may to must on the referenced tariff sheet. FGT states that it is making the tariff revision as required.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing may be viewed on the web at http://www.ferc.gov using the “RIMS” link, select “Docket #” from the RIMS Menu and follow the instructions (please call (202) 208-2222 for assistance). Comments, protests and interventions may be filed electronically via the Internet in lieu of paper. See, 18 CFR 385.2001(a)(1)(iii) and the instructions on the Commission's web site at http://www.ferc.gov under the link to the User's Guide. If you have not yet established an account, you will need to create a new account by clicking on “Login to File” and then “New User Account.”

David P. Boergers,
Secretary.

[FR Doc. 01-17063 Filed 7-6-01; 8:45 am]

BILLING CODE 6717-01-M